DEPARTMENT OF ENERGY

Federal Energy Regulatory Commission

[Docket Nos. CP06-61-000; CP01-23-003]

North Baja Pipeline, LLC; Notice of Application

February 21, 2006.

Take notice that on February 7, 2006, North Baja Pipeline, LLC (North Baja), 1400 SW Fifth Avenue, Suite 900, Portland, Oregon 97201, filed in Docket Nos. CP01-23-001 and CP06-61-00, applications pursuant to sections 7 and 3 of the Natural Gas Act (NGA), for a certificate of public convenience and necessity authorizing the expansion of North Baja's existing interstate pipeline system and an amendment to its Presidential Permit to allow for the construction of additional facilities at the U.S.-Mexico border to accommodate the importation of regassified LNG from Mexico, all as more fully set forth in the request which is on file with Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

North Baja requests authority to develop its expansion in three phases. Specifically, in Phase I, anticipated in-service October 1, 2007, North Baja seeks to:

(1) Modify its existing Ehrenburg Compressor Station in La Paz County, Arizona and Ogilby Meter Station in Imperial County, California to facilitate the bi-directional flow of gas;

(2) Construct a new meter station and a 36-inch diameter pipeline interconnection with the facilities of Southern California Gas Company (SoCalGas) at the proposed Blythe Meter Station site in Riverside County, California;

(3) Construct a new 42-inch diameter pipeline crossing of the Colorado River to connect the Ehrenberg Compressor Station with the Blythe Meter Station; and

(4) Construct the new 0.625 mile, 10-inch diameter Blythe Energy Interconnect Lateral to connect the Blythe Energy Facility I's existing supply line with the Blythe Meter Station.

North Baja states that the proposed facility modifications and additions will allow it to deliver up to 609,000 Dth per day of regassified LNG into California and Arizona from Mexico.

In Phase I-A, anticipated in-service June 1, 2009, North Baja proposes to construct and operate the 45.7 mile, 16-inch diameter IID Lateral extending westward from North Baja's existing pipeline through Imperial County, California to the El Centro Generating Station near El Centro California. North Baja states that the IID Lateral will have a capacity of 110,000 Dth per day.

In Phase II, anticipated in-service January 1, 2010, North Baja proposes to construct and operate about 80 miles of 48-inch and 42-inch diameter pipeline loop, the B-Line, on its existing mainline (A-Line) in Riverside and Imperial Counties, California. North Baja anticipates that upon completion of the Phase II facilities the capacity of its system will be 2.7 Bcf per day. North Baja estimates that the total cost of all phases of the proposed project will be $291 million. North Baja proposes to incrementally price transportation service on the Blythe Energy Interconnect Lateral and IID Lateral and to roll-in the costs of the looping facilities (Line B) into its existing rates.

Any questions regarding this application should be directed to Carl M. Fink, Associate General Counsel, North Baja Pipeline, LLC, 1400 SW Fifth Avenue, Suite 900, Portland, Oregon, 97201 at (503) 833-4256 or Carl_Fink@TransCanada.com.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's web site under the “e-Filing” link.

Comment Date: March 13, 2006.

Magalie R. Salas,
Secretary.

[FR Doc. E6-2872 Filed 2-28-06; 8:45 am]

BILLING CODE 6717-01-P